BUREAU OF CONSUMER FINANCIAL PROTECTION

[Docket No. CFPB-2020-0026]

Request for Information on the Equal Credit Opportunity Act and Regulation B; Extension of Comment Period

AGENCY: Bureau of Consumer Financial Protection.

ACTION: Notice and request for information; extension of comment period.

SUMMARY: On August 3, 2020, the Bureau of Consumer Financial Protection (Bureau) published in the Federal Register a Request for Information (RFI) seeking comments and information to identify opportunities to prevent credit discrimination, encourage responsible innovation, promote fair, equitable, and nondiscriminatory access to credit, address potential regulatory uncertainty, and develop viable solutions to regulatory compliance challenges under the Equal Credit Opportunity Act (ECOA) and Regulation B. The RFI provided a 60-day comment period that was set to close on October 2, 2020. To allow interested persons more time to consider and submit their comments, the Bureau is extending the comment period until December 1, 2020.

DATES: The comment period for the RFI published August 3, 2020, at 85 FR 46600, is extended. Responses to the RFI must now be received on or before December 1, 2020.

ADDRESSES: You may submit responsive information and other comments, identified by Docket No. CFPB-2020-0026, by any of the following methods:

• Federal eRulemaking Portal: Go to http://www.regulations.gov. Follow the instructions for submitting comments.

• Email: 2020-RFI-ECOA@cfpb.gov. Include Docket No. CFPB-2020-0026 in the subject line of the message.

• Mail/Hand Delivery/Courier: Comment Intake, Bureau of Consumer Financial Protection, 1700 G Street NW, Washington, DC 20552. Please note that due to circumstances associated with the COVID-19 pandemic, the Bureau discourages the submission of comments by mail, hand delivery, or courier.

• Instructions: The Bureau encourages the early submission of comments. All submissions must include the document title and docket number. Because paper mail in the Washington, DC area and at the Bureau is subject to delay, and in light of difficulties associated with mail and hand deliveries during the COVID-19 pandemic, commenters are encouraged to submit comments electronically. In general, all comments received will be posted without change to http://www.regulations.gov. In addition, once the Bureau's headquarters reopens, comments will be available for public inspection and copying at 1700 G Street NW, Washington, DC 20552, on official business days between the hours of 10 a.m. and 5 p.m. Eastern Time. At that time, you can make an appointment to inspect the documents by telephoning 202-435-9169.

All submissions in response to this request for information (RFI), including attachments and other supporting materials, will become part of the public record and subject to public disclosure. Please do not include sensitive personal information in your submissions, such as account numbers or Social Security numbers, or names of other individuals, or other information that you would not ordinarily make public, such as trade secrets or confidential commercial information. Submissions will not be edited to remove any identifying or contact information, or other information that you would not ordinarily make public. If you wish to submit trade secret or confidential commercial information, please contact the individuals listed in the FOR FURTHER INFORMATION CONTACT section below. Information submitted to the Bureau will be treated in accordance with the Bureau's Rule on the Disclosure of Records and Information, 12 CFR part 1070 et seq.

FOR FURTHER INFORMATION CONTACT: For general inquiries and submission process questions, please call Pavy Bacon, Senior Counsel, Office of Regulations at 202-435-7700. If you require this document in an alternative electronic format, please contact CFPB_Accessibility@cfpb.gov.

SUPPLEMENTARY INFORMATION: On July 28, 2020, the Bureau issued an RFI to seek comments on the actions it can take or should consider taking to prevent credit discrimination, encourage responsible innovation, promote fair, equitable, and nondiscriminatory access to credit, address potential regulatory uncertainty, and develop viable solutions to regulatory compliance challenges under ECOA and Regulation B. The RFI was published in the Federal Register on August 3, 2020.¹

¹ 85 FR 46600 (Aug. 3, 2020).

The RFI provided a 60-day public comment period that was set to close on October 2, 2020. Subsequent to issuance of the RFI, representatives from several industry organizations and consumer groups asked the Bureau to extend the deadline for submission of comments, to allow interested parties more time to conduct outreach to relevant constituencies and to address the many issues raised in the RFI. The Bureau believes that an extension of the RFI comment period to December 1, 2020, is appropriate. This extension should allow interested parties more time to prepare responses to the RFI. The RFI comment period will now close on December 1, 2020.

Signing Authority

The Director of the Bureau, having reviewed and approved this document, is delegating the authority to electronically sign this document to Laura Galban, a Bureau Federal Register Liaison, for purposes of publication in the Federal Register.

Dated: August 19, 2020.
Laura Galban,
Federal Register Liaison, Bureau of Consumer Financial Protection.

[FR Doc. 2020-18557 Filed 8-24-20; 8:45 am]

BILLING CODE 4810-AM-P